Title 3—

The President

Proclamation 8520 of May 14, 2010

National Defense Transportation Day and National Transportation Week, 2010

By the President of the United States of America

A Proclamation

The transportation networks of early America connected our rapidly growing Nation with natural waterways and dirt roads, making travel difficult and time-consuming. In the time since, undeveloped paths have given way to iron and concrete thoroughfares, and our modern transportation system has profoundly shaped our landscape, communities, commerce, and culture. During National Defense Transportation Day and National Transportation Week, we reaffirm the importance of an advanced transportation infrastructure to our Nation’s economy and security, and we thank the dedicated men and women who build and maintain it.

In times of peace and national crisis, efficient roads, rails, ports, and airports play a vital role in keeping us safe by enabling the rapid movement of people and resources. The devoted professionals who design and manage this infrastructure help ensure America has a world-class logistics and transportation system to support our military readiness and emergency response capabilities.

Our Nation’s transportation arteries make our economy more efficient, promoting economic growth, the lifeblood of commerce. The Department of Transportation is working closely with State, local, and tribal governments to ensure billions in transportation funds from the American Recovery and Reinvestment Act of 2009 are used to improve infrastructure across America. Through Recovery Act projects, we are repairing crumbling infrastructure, expanding transit capacity, and modernizing our transportation system to meet national security standards and the needs of a 21st-century economy.

The ability to travel effectively also strengthens us as a people. President Eisenhower’s creation of our interstate highway system over 50 years ago revolutionized channels of economic and social mobility, drew together distant areas of our Nation, and helped us maneuver through dense metropolitan areas. Today, smart, sustainable development, coupled with quality public transportation, has created more livable and environmentally sustainable communities for all to enjoy. By reducing isolation and bringing neighborhoods together, we can continue to increase access to good jobs, affordable housing, safe streets and parks, and a healthy food supply.

Working together to upgrade our Nation’s transportation infrastructure, we will lay a new foundation for long-term growth, security, and prosperity in America and give future generations a transportation system that is second to none.

To recognize the importance of transportation and the Americans who work to meet our transportation needs, the Congress has requested, by joint resolution approved May 16, 1957, as amended (36 U.S.C. 120), that the President designate the third Friday in May of each year as “National Defense Transportation Day,” and, by joint resolution approved May 14, 1962, as amended (36 U.S.C. 133), that the week during which that Friday falls be designated as “National Transportation Week.”

NOW, THEREFORE, I, BARACK OBAMA, President of the United States of America, do hereby proclaim Friday, May 21, 2010, as National Defense Transportation Day and the week of May 16 through May 22, 2010, as National Transportation Week. I call upon all Americans to recognize the importance of our Nation’s transportation system and to acknowledge the contributions of the men and women who support this critical sector.

IN WITNESS WHEREOF, I have hereunto set my hand this fourteenth day of May, in the year of our Lord two thousand ten, and of the Independence of the United States of America the two hundred and thirty-fourth.

[FR Doc. 2010-12263

Filed 5-19-10; 8:45 am]

Billing code 3195-W0-P